SMALL BUSINESS ADMINISTRATION

[Disaster Declaration #13818 and #13819]

South Dakota Disaster # D-00063

AGENCY: U.S. Small Business Administration.

ACTION: Notice.

SUMMARY: This is a Notice of the Presidential declaration of a major disaster for Public Assistance Only for the State of South Dakota (FEMA-4155-DR), dated 11/08/2013.

Incident: Severe Winter Storm, Snowstorm, and Flooding.

Incident Period: 10/03/2013 through 10/16/2013.

Effective Date: 11/08/2013.

Physical Loan Application Deadline Date: 01/07/2014.

Economic Injury (EIDL) Loan Application Deadline Date: 08/08/2014.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 11/08/2013, Private Non-Profit organizations that provide essential services of governmental nature may file disaster loan applications at the address listed above or other locally announced locations.

The following areas have been determined to be adversely affected by the disaster:

Primary Counties: Butte, Corson, Custer, Dewey, Fall River, Haakon, Harding, Jackson, Lawrence, Meade, Pennington, Perkins, Shannon, Ziebach, and the Cheyenne River Sioux Tribe of the Cheyenne River Reservation within Dewey and Ziebach Counties and the Oglala Sioux Tribe within Jackson and Shannon Counties.

The Interest Rates are:

| Percent
For Physical Damage:
Non-Profit Organizations With Credit Available Elsewhere | 2.875
Non-Profit Organizations Without Credit Available Elsewhere | 2.875
For Economic Injury:
Non-Profit Organizations Without Credit Available Elsewhere | 2.875

The number assigned to this disaster for physical damage is 13818B and for economic injury is 13819B.

(Catalog of Federal Domestic Assistance Numbers 59002 and 59008)

James E. Rivera,
Associate Administrator for Disaster Assistance.

[FR Doc. 2013-27737 Filed 11-19-13; 8:45 am]

BILLING CODE 8025-01-P